DEPARTMENT OF HEALTH AND HUMAN SERVICES

Substance Abuse and Mental Health Services Administration

Center for Mental Health Services; Notice of Meeting

Pursuant to Pub. L. 92-463, notice is hereby given of the teleconference meeting of the Center for Mental Health Services (CMHS) National Advisory Council on May 16, 2005.

The meeting will include the review, discussion and evaluation of individual grant applications. This discussion could reveal personal information concerning individuals associated with the applications. Therefore the meeting will be closed to the public as determined by the Administrator, SAMHSA, in accordance with Title 5 U.S.C. 552b(c)(6) and 5 U.S.C. App. 2., Section 10(d).

A summary of the meeting and a roster of Council members may be obtained by accessing the SAMHSA Advisory Council Web site (http://www.samhsa.gov) as soon as possible after the meeting or by communicating with the contact whose name and telephone number are listed below.

Committee Name: Substance Abuse and Mental Health Services Administration Center for Mental Health Services National Advisory Council.

Meeting Date: May 16, 2005.

Type: Closed 1 p.m.-2:30 p.m.

Place: 1 Choke Cherry Road, Conference Room 6-1060, Rockville, Maryland 20852.

Contact: Dianne McSwain, M.S.W., 1 Choke Cherry, Room 6-1083, Rockville, Maryland 20852, Telephone: (240) 276-1828; Fax: (240) 276-1850, E-mail: Dianne.McSwain@samhsa.hhs.gov.

This notice is being published less than 15 days prior to the meeting due to the urgent need to meet timing limitation imposed by the review and funding cycle.

Dated: May 9, 2005.
Toian Vaughn,
Committee Management Officer, Substance Abuse and Mental Health, Services Administration.

[FR Doc. 05-9552 Filed 5-10-05; 1:02 pm]

BILLING CODE 4162-20-P